DEPARTMENT OF ENERGY

Federal Energy Regulatory Commission

Notice of Commission Staff Attendance at North American Electric Reliability Corporation Meetings

November 7, 2008.

The Federal Energy Regulatory Commission hereby gives notice that members of the Commission and Commission staff may attend the following NERC related meeting:

• Member Representative Committee (11 a.m.-12:30 a.m. EST)

○ Friday, November 14th, 2008.

The meeting above will be held at: North American Electric Reliability Corporation, 116-390 Village Blvd., Princeton, NJ 08540, 609-452-8060.

Further information may be found at http://www.nerc.com.

The above-referenced meeting is open to the public. The discussions at the meeting described above may address matters at issue in the following proceedings:

Docket Nos. RR08-6, RR07-14, North American Electric Reliability Corporation, et al.

Docket No. RR06-3, North American Electric Reliability Corporation, et al.

For more information, contact Mary Agnes Nimis, Office of Electric Reliability, Federal Energy Regulatory Commission at (202) 502-8235 or maryagnes.nimis@ferc.gov or Daniel Phillips, Office of Electric Reliability, Federal Energy Regulatory Commission at (202) 502-6387 or daniel.phillips@ferc.gov.

Kimberly D. Bose,
Secretary.

[FR Doc. E8-27065 Filed 11-13-08; 8:45 am]

BILLING CODE 6717-01-P